DEPARTMENT OF DEFENSE

Department of the Navy

Notice of Intent To Prepare an Environmental Impact Statement/Overseas Environmental Impact Statement for Military Readiness Activities in the Northwest Training and Testing Study Area and To Announce Public Scoping Meetings; Correction

AGENCY: Department of Navy, DoD.

ACTION: Notice; correction.

SUMMARY: The Department of the Navy published a document in the Federal Register (77 FR 11497) on February 27, 2012, concerning public scoping meetings to support the development of an Environmental Impact Statement/Overseas Environmental Impact Statement for the Northwest Training and Testing Study Area. The document contained an incorrect comment period closing date.

FOR FURTHER INFORMATION CONTACT: Ms. Kimberly Kler, Naval Facilities Engineering Command, Northwest, 1101 Tautog Circle, Suite 203, Silverdale, Washington 98315-1101, Attention: NWTT EIS/OEIS Project Manager.

Correction: In the Federal Register (77 FR 11497) of February 27, 2012, on page 11498, in the third column, last paragraph, correct the comment period date to read:

Written comments must be postmarked no later than April 27, 2012, and should be mailed to: Ms. Kimberly Kler, Naval Facilities Engineering Command, Northwest, 1101 Tautog Circle, Suite 203, Silverdale, Washington 98315-1101, Attention: NWTT EIS/OEIS Project Manager.

Dated: March 16, 2012.
J.M. Beal,
Lieutenant Commander, Office of the Judge Advocate, U.S. Navy, Federal Register Liaison Officer.

[FR Doc. 2012-7018 Filed 3-22-12; 8:45 am]

BILLING CODE 3810-FF-P